NUCLEAR REGULATORY COMMISSION

[NRC-2024-0001]

Sunshine Act Meetings

TIME AND DATE: Weeks of September 2, 9, 16, 23, and 30, and October 7, 2024. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of September 2, 2024

Wednesday, September 4, 2024

1:45 p.m. Affirmation Session (Public Meeting) (Tentative) Final Rule: Non-Power Production or Utilization Facility License Renewal. (Contact: Sarah Turner: 301-287-9058)

Additional Information: The public is invited to attend the Commission's meeting live; via teleconference. Details for joining the teleconference in listen only mode at https://www.nrc.gov/pmns/mtg.

Thursday, September 5, 2024

10:00 a.m. All Employees Meeting (Public Meeting) (Contact: Sarah Turner 301-287-9058)

Additional Information: The meeting will be held in the Two White Flint North auditorium, 11555 Rockville Pike, Rockville, Maryland. The public is invited to attend the Commission's meeting live by webcast at the Web address— https://video.nrc.gov/.

Week of September 9, 2024—Tentative

There are no meetings scheduled for the week of September 9, 2024.

Week of September 16, 2024—Tentative

There are no meetings scheduled for the week of September 16, 2024.

Week of September 23, 2024—Tentative

There are no meetings scheduled for the week of September 23, 2024.

Week of September 30, 2024—Tentative

There are no meetings scheduled for the week of September 30, 2024.

Week of October 7, 2024—Tentative

Tuesday, October 8, 2024

10:00 a.m. Meeting with the Organization of Agreement States and the Conference of Radiation Control Program Directors (Public Meeting) (Contact: Jeffrey Lynch: 301-415-5041)

Additional Information: The meeting will be held in the Commissioners' Hearing Room, 11555 Rockville Pike, Rockville, Maryland. The public is invited to attend the Commission's meeting in person or watch live via webcast at the Web address— https://video.nrc.gov/.

CONTACT PERSON FOR MORE INFORMATION: For more information or to verify the status of meetings, contact Sarah Turner at 301-287-9058 or via email at Sarah.Turner@nrc.gov.

The NRC is holding the meetings under the authority of the Government in the Sunshine Act, 5 U.S.C. 552b.

Dated: August 28, 2024.
For the Nuclear Regulatory Commission.
Monika G. Coflin,
Technical Coordinator, Office of the Secretary.

[FR Doc. 2024-19734 Filed 8-28-24; 4:15 pm]

BILLING CODE 7590-01-P